ENVIRONMENTAL PROTECTION AGENCY

[FRL-7213-2]

Gulf of Mexico Program Comprehensive Meeting of the Focus Teams

AGENCY: Environmental Protection Agency (EPA).

ACTION: Notice of meeting.

SUMMARY: Under the Federal Advisory Act, Public Law 92-463, EPA gives notice of a Comprehensive Meeting of the Gulf of Mexico Program (GMP) Focus Teams (Public Health, Nutrient Enrichment, Habitat, and Invasive Species).

DATES: The Meeting will be held on Wednesday, June 12, 2002, from 9 a.m. to 11:30 a.m. (Plenary Session) and 1 p.m. to 5 p.m. (Focus Team Meetings), and on Thursday, June 13, 2002, from 9 a.m. to 3 p.m.

ADDRESSES: The meeting will be held at the Hilton New Orleans Riverside Hotel, Poydras at the Mississippi River, New Orleans, Louisiana. (504-561-0500).

FOR FURTHER INFORMATION CONTACT: Gloria D. Car, Designated Federal Officer, Gulf of Mexico Program Office, Mail Code EPA/GMPO, Stennis Space Center, MS 39529-P6000 at (228) 688-2421.

SUPPLEMENTARY INFORMATION: Proposed agenda is attached.

The meeting is open to the public.
Dated: May 13, 2002.
Gloria D. Car,
Designated Federal Officer.

Gulf of Mexico Program

Comprehensive Meeting of the Focus Teams, Hilton Riverside New Orleans, June 12-13, 2002

Draft Agenda

Wednesday, June 12—Comprehensive Meeting

Data and Information Transfer Meeting, 8-9 Durham Board Room

Plenary Session, 9-11:30, Napoleon Ballroom

Break for Lunch (free time), 11:30-1

Afternoon Sessions, 1-5

Public Health Focus Team—Melrose Room

Habitat Focus Tream—Jasperwood

Invasive Species—Rosedown

Nutrient Enrichment—Magnolia

Thursday, June 13—Final Day

NEP Directors Meeting, 8:30-12, Durham Board Room

Public Health Focus Team Meeting, Vibrio Vulnificus Subcommittee, 8:30-11:30, Rosedown Room

Invasive Species Transition Team Meeting, 8:30-11:30 TBD

Citizens Advisory Committee, 1-3, Rosedown Room

MMRC Meeting, 1-3, Durham Board Room

[FR Doc. 02-12416 Filed 5-16-02; 8:45 am]

BILLING CODE 6560-50-M